DEPARTMENT OF TRANSPORTATION

Office of the Secretary

Notice of Applications for Certificates of Public Convenience and Necessity and Foreign Air Carrier Permits Filed Under Subpart B (Formerly Subpart Q) During the Week Ending November 14, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0340.

Date Filed: November 10, 2008.

Due Date for Answers, Conforming Applications, or Motion to Modify Scope: December 1, 2008.

Description: Application of Solid aiR B.V. (“Solid aiR”) requesting a foreign air carrier permit to the full extent authority by the Air Transport Agreement Between the United States and the European Community and the Member States of the European Community to enable it to engage in: (i) Foreign charter air transportation of persons and property from any point or points behind any Member State of the European Union via any point or points in any Member State and via intermediate points to any point or points in the United States and beyond; (ii) foreign charter air transportation of persons and property between any point or points in the United States and any point or points in any member of the European Common Aviation Area; (iii) other charters pursuant to the prior approval requirements; and (iv) transportation authorized by an additional route rights made available to European Community carrier in the future. Solid aiR further requests exemption authority to the extent necessary to enable it to provide the services described above pending issuance of a foreign air carrier permit and such additional or other relief.

Docket Number: DOT-OST-1997-2046.

Date Filed: November 13, 2008.

Due Date for Answers, Conforming Applications, or Motion to Modify Scope: December 4, 2008.

Description: Application of United Air Lines, Inc. (United) requesting renewal of its experimental certificate of public convenience and necessity for Route 632, Segment 1 (Sao Paulo, Rio de Janeiro, Brasilia and Belem, Brazil; Barranqulla, Columbia; and Buenos Aires, Argentina) and Segment 6 (Rio de Janeiro, Brazil).

Docket Number: DOT-OST-1997-2911.

Date Filed: November 13, 2008.

Due Date for Answers, Conforming Applications, or Motion to Modify Scope: December 4, 2008.

Description: Application of United Air Lines, Inc. (United) requesting a renewal of the certificate of public convenience and necessity for Route 747, which authorizes United to engage in scheduled foreign air transportation of persons, property and mail between any points in the United States, via intermediate points in third countries, and the conterminal points Johannesburg and Cape Town, South Africa, and beyond South Africa to Harare, Zimbabwe.

Renee V. Wright,
Program Manager, Docket Operations, Federal Register Liaison.

.

[FR Doc. E8-31194 Filed 12-30-08; 8:45 am]

BILLING CODE 4910-9X-P